ENVIRONMENTAL PROTECTION AGENCY

40 CFR Part 52

[EPA-R01-OAR-2016-0168; FRL-10414-02-R1]

Air Plan Approval; Connecticut; Plan Submittals for the 2008 Ozone National Ambient Air Quality Standard

AGENCY: Environmental Protection Agency (EPA).

ACTION: Final rule; correcting amendment.

SUMMARY: The Environmental Protection Agency (EPA) is amending approved State Implementation Plan (SIP) revisions submitted by the State of Connecticut to address SIP revisions submitted to meet moderate area nonattainment requirements for the 2008 ozone standard. The SIP revisions are for the Greater Connecticut and the Connecticut portion of the New York-Northern New Jersey-Long Island, NY-NJ-CT moderate ozone nonattainment areas, and include these areas 2011 base year emissions inventories, an emissions statement certification, reasonable further progress (RFP) demonstrations, reasonably available control measures (RACM) analyses, motor vehicle emissions budgets, and contingency measures. This rule does not change any final action taken by EPA in an earlier final rule published on October 1, 2018; this action merely corrects the Clean Air Act (CAA) citation for moderate area contingency measures.

DATES: This rule is effective on November 30, 2022.

ADDRESSES: EPA has established a docket for this action under Docket Identification No. EPA-R01-OAR-2016-0168. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Bob McConnell, Environmental Engineer, Air Quality Planning Unit, Air Programs Branch (Mail Code OEP05-02), U.S. Environmental Protection Agency, Region 1, 5 Post Office Square, Suite 100, Boston, Massachusetts, 02109-3912; (617) 918-1046; mcconnell.robert@epa.gov.

SUPPLEMENTARY INFORMATION: Throughout this document whenever “we,” “us,” or “our” is used, we mean EPA.

Table of Contents

I. Background and Purpose

II. Final Action

III. Statutory and Executive Order Reviews

I. Background and Purpose

On October 1, 2018, a Final Rule published at 83 FR 49297 (FR doc. 2018-21150). EPA has identified the need for a typographical correction to the regulatory text approved into the Code of Federal Regulations by FR Rule Doc. 2018-21150. The typographical error appears on page 49298, in the second column, in § 52.377, in amendment 2, within the added paragraph (t).

II. Final Action

The EPA is revising a final rule that was published in the Federal Register on October 1, 2018, which became effective on October 31, 2018, correcting a typographical error to 40 CFR 52.377(t). The final rule approved SIP revisions submitted by the State of Connecticut to address SIP revisions submitted to meet moderate area nonattainment requirements for the 2008 ozone standard. The SIP revisions are for the Greater Connecticut and the Connecticut portion of the New York-Northern New Jersey-Long Island, NY-NJ-CT moderate ozone nonattainment areas, and include these areas 2011 base year emissions inventories, an emissions statement certification, RFP demonstrations, RACM analyses, motor vehicle emissions budgets, and contingency measures. This revision does not change any final action taken by EPA on October 1, 2018; this action merely corrects the CAA citation for moderate area contingency measures. We have determined that there is good cause for making this rule final without prior proposal and opportunity for comment because we are merely correcting an incorrect citation in a previous action. Thus, notice and public procedure are unnecessary. We find that this constitutes good cause under 5 U.S.C. 553(b)(B).

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 22, 2022.
David Cash,
Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.377 is amended by revising paragraph (t) to read as follows:

§ 52.377 Control strategy: Ozone.

* * * * *

(t) Approval. Revisions to the State Implementation Plan submitted by the Connecticut Department of Energy and Environmental Protection on January 17, 2017, September 5, 2017, and August 8, 2017, to meet, in part, requirements of the 2008 ozone NAAQS. These revisions satisfy the rate of progress requirement of section 182(b) through 2017, the contingency measure requirements of section 172(c)(9), the emission statement requirements of section 182(a)(3)(B), and the reasonably available control measure requirement of section 172(c)(1) for the Connecticut portion of the New York-Northern New Jersey-Long Island, NY-NJ-CT area, and the Greater Connecticut moderate ozone nonattainment areas. The January 17, 2017 revision establishes motor vehicle emissions budgets for 2017 of 15.9 tons per day of VOC and 22.2 tons per day of NOX to be used in transportation conformity in the Greater Connecticut moderate ozone nonattainment area. The August 8, 2017 revision establishes motor vehicle emissions budgets for 2017 of 17.6 tons per day of VOC and 24.6 tons per day of NOX to be used in transportation conformity in the Connecticut portion of the New York-Northern New Jersey-Long Island, NY-NJ-CT moderate ozone nonattainment area.

* * * * *

[FR Doc. 2022-26016 Filed 11-29-22; 8:45 am]

BILLING CODE 6560-50-P